DEPARTMENT OF HOUSING AND URBAN DEVELOPMENT

[FR-6421-N-01]

Increasing the Supply of Affordable Housing Through Off-Site Construction and Pro-Housing Reforms Research Grant Program Pre and Full Application

AGENCY: Office of Policy Development and Research, Department of Housing and Urban Development (HUD).

ACTION: Notice.

SUMMARY: Through this notice, HUD is correcting the Estimated Total Funding made available for the Increasing the Supply of Affordable Housing through Off-Site Construction and Pro-Housing Reforms Research Grant Program Pre and Full Application Notice of Funding Opportunity (NOFO), from approximately four million dollars to approximately three million dollars; and corrects the funding source appropriation.

FOR FURTHER INFORMATION CONTACT: Curtissa Coleman, Director, Office of University Partnerships, Department of Housing and Urban Development, 451 7th Street SW, Washington DC; telephone number 202-402-7580 (this is not a toll-free number); email curtissa.l.coleman@hud.gov. HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION: HUD is publishing a correction to the Estimated Total Funding for the Increasing the Supply of Affordable Housing through Off-Site Construction and Pro-Housing Reforms Research Grant Program Pre and Full Application Notice of Funding Opportunity (NOFO) published on June 15, 2023, and closed on August 1, 2023. The correct Estimated Total Funding is $3,000,000; and the correct funding source appropriation is the Consolidated Appropriations Act, 2023 (Pub. L. 117-328, approved December 29, 2022).

Kurt Usowski,
Deputy Assistant Secretary, Office of Economic Affairs.

[FR Doc. 2023-17912 Filed 8-18-23; 8:45 am]

BILLING CODE 4210-67-P